ENVIRONMENTAL PROTECTION AGENCY

[EPA-HQ-OPP-2022-0163; FRL-9408-07-OCSPP]

Pesticide Product Registration; Receipt of Applications for New Uses—July 2022

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before September 23, 2022.

ADDRESSES: Submit your comments, identified by the docket identification (ID) number and the EPA File Symbol or the EPA Registration Number of interest as shown in the body of this document, through the Federal eRulemaking Portal at https://www.regulations.gov. Follow the online instructions for submitting comments. Do not submit electronically any information you consider to be Confidential Business Information (CBI) or other information whose disclosure is restricted by statute. For the latest status information on EPA/DC services and access, visit https://www.epa.gov/dockets.

FOR FURTHER INFORMATION CONTACT:

Each application summary in Unit II specifies a contact division. The appropriate division contacts are identified as follows:

• AD (Antimicrobials Division) (Mail Code 7510M); Anita Pease, main telephone number: (202) 566-0737; email address: ADFRNotices@epa.gov.

• RD (Registration Division) (Mail Code 7505T); Marietta Echeverria; main telephone number: (202) 566-1030; email address: RDFRNotices@epa.gov.

The mailing address for each contact person: Office of Pesticide Programs, Environmental Protection Agency, 1200 Pennsylvania Ave. NW, Washington, DC 20460-0001. As part of the mailing address, include the contact person's name, division, and mail code.

SUPPLEMENTARY INFORMATION:

I. General Information

A. Does this action apply to me?

This action provides information that is directed to the public in general.

B. What should I consider as I prepare my comments for EPA?

1. Submitting CBI. Do not submit CBI information to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Applications To Register New Uses

EPA has received applications to register new uses for pesticide products containing currently registered active ingredients. Pursuant to the provisions of FIFRA section 3(c)(4), 7 U.S.C. 136a(c)(4), and 40 CFR 152.102, EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www.epa.gov/registration/participation-process-registration-actions).

• EPA Registration Number(s):100-791, 100-799, 100-1145, 100-1202, 100-1685. Docket ID number: EPA-HQ-OPP-2022-0493. Applicant: Syngenta Crop Protection, LLC., P.O. Box 18300, Greensboro, NC 27419-8300. Active ingredient: Mefenoxam. Product type: Fungicide. Proposed Use(s): Leafy Greens Subgroup, 4-16A (except spinach); Brassica Leafy Greens Subgroup 4-16B; Brassica Head and Stem Vegetable Crop Group 5-16; Stalk and Stem Vegetable Subgroup 22A (except celtuce, Florence fennel and kohlrabi); Celtuce; Florence fennel; Kohlrabi; Leaf Petiole Vegetable Subgroup 22B; Fruiting Vegetables Subgroup 8-10; Succulent Shelled Pea and Bean Crop Subgroup 6B; Cottonseed Crop Subgroup 20C. Contact: RD.

• EPA Registration Number(s):100-791, 100-1145, 100-1202, 100-1685. Docket ID number: EPA-HQ-OPP-2022-0493. Applicant: Syngenta Crop Protection, LLC., P.O. Box 18300, Greensboro, NC 27419-8300. Active ingredient: Mefenoxam. Product type: Fungicide. Proposed Use(s): None. Contact: RD.

• EPA Registration Number(s): 100-1571, 100-1591, 100-1614. Docket ID number: EPA-HQ-OPP-2022-0597. Applicant: Syngenta Crop Protection LLC P.O. Box 18300 Greensboro, NC 27419. Active ingredient: Oxathiapiprolin. Product type: Fungicide. Proposed Use(s): [peanut hay.] RD.

• EPA Registration Number: 65402-3. Docket ID number: EPA-HQ-OPP-2022-0458. Applicant: PeroxyChem, LLC 2005 Market Street, Suite 3200, Philadelphia, PA 19103. Active ingredient: Hydrogen Peroxide and Peroxyacetic Acid. Product type: Antimicrobial Pesticide. Proposed use: Recirculating Aquaculture Systems. Contact: AD.

• EPA File Symbol: 70927-T. Docket ID number: EPA-HQ-OPP-2022-0514. Applicant: Noble Fiber Technologies, LLC, 300 Palm Street Scranton, PA 18505. Active ingredient: Citric Acid. Product type: Material preservative solution. Proposed Use: Commercial and industrial use in the manufacture of various intermediate and finished products. In addition, the product will also be used in the formulation of other pesticide products. Contact: AD.

• EPA File Symbol: 89459-RGI. Docket ID number: EPA-HQ-OPP-2022-0610. Applicant: Central Garden & Pet, 1501 E. Woodfield Rd. Suite 200W Schaumburg, IL 60173. Active ingredient: transfluthrin. Product type: Insecticide. Proposed Use: Indoor aerosol spray for spot, surface & crack and crevice treatments. Contact: RD.

Authority: 7 U.S.C. 136 et seq.

Dated: August 10, 2022.
Brian Bordelon,
Acting Director, Information Technology and Resources Management Division, Office of Program Support.

[FR Doc. 2022-18264 Filed 8-23-22; 8:45 am]

BILLING CODE 6560-50-P